DEPARTMENT OF ENERGY

Federal Energy Regulatory Commission

[Docket Nos. RM06-16-010; RM06-16-011]

Mandatory Reliability Standards for the Bulk Power System; Notice Allowing Post-Technical Conference Comments

September 24, 2010.

On September 23, 2010, the Federal Energy Regulatory Commission conducted a Technical Conference on Frequency Response in the Wholesale Electric Grid. The purpose of the technical conference was to provide an opportunity for a public discussion regarding technical issues pertaining to the development of a frequency response requirement. All interested persons are invited to file written comments on or before October 14, 2010, that relate to the issues discussed during the technical conference. Commenters are encouraged to use the questions presented in the agenda for the conference to organize their comments.

Kimberly D. Bose,
Secretary.

[FR Doc. 2010-24942 Filed 10-4-10; 8:45 am]

BILLING CODE 6717-01-P